DEPARTMENT OF THE TREASURY

Office of Foreign Assets Control

Additional Identifying Information Associated With Persons Whose Property and Interests in Property Are Blocked Pursuant to Executive Order 13606 of April 22, 2012: Blocking Property and Suspending Entry Into United States of Certain Persons With Respect to Grave Human Rights Abuses by Governments of Iran and Syria via Information Technology

AGENCY: Office of Foreign Assets Control, Treasury.

ACTION: Notice.

SUMMARY: The Treasury Department's Office of Foreign Assets Control (“OFAC”) is publishing additional identifying information associated with the one individual and six entities listed in the Annex to Executive Order 13606 of April 22, 2012 “Blocking the Property and Suspending Entry Into the United States of Certain Persons With Respect to Grave Human Rights Abuses by the Governments of Iran and Syria via Information Technology,” whose property and interests in property are blocked.

FOR FURTHER INFORMATION CONTACT: Assistant Director, Compliance Outreach & Implementation, Office of Foreign Assets Control, Department of the Treasury, Washington, DC 20220, Tel.: 202/622-2490.

SUPPLEMENTARY INFORMATION:

Electronic and Facsimile Availability

This document and additional information concerning OFAC are available from OFAC's Web site (http://www.treasury.gov/resource-center/sanctions/SDN-List/Pages/default.aspx) or via facsimile through a 24-hour fax-on-demand service, Tel.: 202/622-0077.

Background

On April 22, 2012, the President issued Executive Order 13606, “Blocking the Property and Suspending Entry Into the United States of Certain Persons With Respect to Grave Human Rights Abuses by the Governments of Iran and Syria via Information Technology,” (the “Order”) pursuant to, inter alia, the International Emergency Economic Powers Act (50 U.S.C. 1701-06). In the Order, the President took additional steps with respect to the national emergencies declared in Executive Order 12957 of March 15, 1995 and Executive Order 13338 of May 11, 2004.

Section 1 of the Order blocks, with certain exceptions, all property and interests in property that are in the United States, that come within the United States, or that are or come within the possession or control of any United States person, including any foreign branch, of persons listed in the Annex to the Order and of persons determined by the Secretary of the Treasury, in consultation with or at the recommendation of the Secretary of State, to satisfy certain criteria set forth in the Order.

The Annex to the Order lists one individual and six entities whose property and interests in property are blocked pursuant to the Order. OFAC is publishing additional identifying information associated with the individual and entities. As noted in the listings below, the property and interests in property of the individual and five entities were previously blocked pursuant to other authorities.

The listings for the individual and entities on OFAC's list of Specially Designated Nationals and Blocked persons appear as follows:

Individual

MAMLUK, Ali (a.k.a. MAMLUK, 'Ali); DOB 1947; POB Amara, Damascus, Syria; Major General; Position: Director, General Intelligence Directorate (individual) [SYRIA] -to- MAMLUK, Ali (a.k.a. MAMLUK, 'Ali) ; DOB 1947; POB Amara, Damascus, Syria; Major General; Position: Director, General Intelligence Directorate (individual) [SYRIA] [HRIT-SY]

Entities

DATAK TELECOM, No. 14, Enbe E Yamin Street, North Sohrevardi Ave., Tehran, Iran [HRIT-IR]

IRANIAN MINISTRY OF INTELLIGENCE AND SECURITY (a.k.a. VEZARAT-E ETTELA'AT VA AMNIAT-E KESHVAR; a.k.a. “MOIS”; a.k.a. “VEVAK”), bounded roughly by Sanati Street on the west, 30th Street on the south, and Iraqi Street on the east, Tehran, Iran; Ministry of Intelligence, Second Negarestan Street, Pasdaran Avenue, Tehran, Iran [SDGT] [SYRIA] [IRAN-HR] -to- IRANIAN MINISTRY OF INTELLIGENCE AND SECURITY (a.k.a. VEZARAT-E ETTELA'AT VA AMNIAT-E KESHVAR; a.k.a. “MOIS”; a.k.a. “VEVAK”), bounded roughly by Sanati Street on the west, 30th Street on the south, and Iraqi Street on the east, Tehran, Iran; Ministry of Intelligence, Second Negarestan Street, Pasdaran Avenue, Tehran, Iran [SDGT] [SYRIA] [IRAN-HR] [HRIT-IR]

ISLAMIC REVOLUTIONARY GUARD CORPS (a.k.a. AGIR; a.k.a. IRANIAN REVOLUTIONARY GUARD CORPS; a.k.a. IRG; a.k.a. IRGC; a.k.a. ISLAMIC REVOLUTIONARY CORPS; a.k.a. PASDARAN; a.k.a. PASDARAN-E ENGHELAB-E ISLAMI; a.k.a. PASDARAN-E INQILAB; a.k.a. REVOLUTIONARY GUARD; a.k.a. REVOLUTIONARY GUARDS; a.k.a. SEPAH; a.k.a. SEPAH PASDARAN; a.k.a. SEPAH-E PASDARAN-E ENQELAB-E ESLAMI; a.k.a. THE ARMY OF THE GUARDIANS OF THE ISLAMIC REVOLUTION; a.k.a. THE IRANIAN REVOLUTIONARY GUARDS), Tehran, Iran [NPWMD] [IRGC] [IRAN-HR] -to- ISLAMIC REVOLUTIONARY GUARD CORPS (a.k.a. AGIR; a.k.a. IRANIAN REVOLUTIONARY GUARD CORPS; a.k.a. IRG; a.k.a. IRGC; a.k.a. ISLAMIC REVOLUTIONARY CORPS; a.k.a. PASDARAN; a.k.a. PASDARAN-E ENGHELAB-E ISLAMI; a.k.a. PASDARAN-E INQILAB; a.k.a. REVOLUTIONARY GUARD; a.k.a. REVOLUTIONARY GUARDS; a.k.a. SEPAH; a.k.a. SEPAH PASDARAN; a.k.a. SEPAH-E PASDARAN-E ENQELAB-E ESLAMI; a.k.a. THE ARMY OF THE GUARDIANS OF THE ISLAMIC REVOLUTION; a.k.a. THE IRANIAN REVOLUTIONARY GUARDS), Tehran, Iran [NPWMD] [IRGC] [IRAN-HR] [HRIT-IR]

LAW ENFORCEMENT FORCES OF THE ISLAMIC REPUBLIC OF IRAN (a.k.a. IRANIAN POLICE; a.k.a. IRAN'S LAW ENFORCEMENT FORCES; a.k.a. NAJA; a.k.a. NIRUYIH INTIZAMIYEH JUMHURIYIH ISLAMIYIH IRAN) [SYRIA] [IRAN-HR] -to- LAW ENFORCEMENT FORCES OF THE ISLAMIC REPUBLIC OF IRAN (a.k.a. IRANIAN POLICE; a.k.a. IRAN'S LAW ENFORCEMENT FORCES; a.k.a. NAJA; a.k.a. NIRUYIH INTIZAMIYEH JUMHURIYIH ISLAMIYIH IRAN) [SYRIA] [IRAN-HR] [HRIT-IR]

SYRIAN GENERAL INTELLIGENCE DIRECTORATE (a.k.a. IDERAT AL-AMN AL-'AMM), Syria [SYRIA] -to- SYRIAN GENERAL INTELLIGENCE DIRECTORATE (a.k.a. IDERAT AL-AMN AL-'AMM), Syria [SYRIA] [HRIT-SY]

SYRIATEL (a.k.a. SYRIATEL MOBILE; a.k.a. SYRIATEL MOBILE TELECOM; a.k.a. SYRIATEL MOBILE TELECOM SA), Doctors Syndicate Building, Al Jalaa Street, Abu Roumaneh Area, PO Box 2900, Damascus, Syria [SYRIA] -to- SYRIATEL (a.k.a. SYRIATEL MOBILE; a.k.a. SYRIATEL MOBILE TELECOM; a.k.a. SYRIATEL MOBILE TELECOM SA), Doctors Syndicate Building, Al Jalaa Street, Abu Roumaneh Area, PO Box 2900, Damascus, Syria [SYRIA] [HRIT-SY]

Dated: May 17, 2012.
Barbara C. Hammerle,
Deputy Director, Office of Foreign Assets Control.

[FR Doc. 2012-12535 Filed 5-23-12; 8:45 am]

BILLING CODE 4810-AL-P